DEPARTMENT OF TRANSPORTATION

Surface Transportation Board

[Docket No. AB 290 (Sub-No. 318X); AB 1059X]

Norfolk Southern Railway Company—Abandonment Exemption—in Crawford County, GA; Georgia Midland Railroad, Inc.¹—Discontinuance of Service Exemption—in Crawford County, GA

¹ Based on information in a letter from one of NSR's attorneys, this is the correct name of the discontinuing railroad—not Georgia Midland Railroad Company, as indicated in the notice.

Norfolk Southern Railway Company (NSR) and Georgia Midland Railroad, Inc. (GMR) (collectively, applicants) have jointly filed a verified notice of exemption under 49 CFR part 1152 subpart F—Exempt Abandonments and Discontinuances of Service and Trackage Rights for NSR to abandon, and for GMR to discontinue service over, a 5.06-mile portion of rail line (the Perry line), between milepost FV 90.44 and milepost FV 95.50, in Roberta, Crawford County, Ga.² The line traverses United States Postal Service Zip Code 31078.

² In Georgia Midland Railroad, Inc.—Acquisition and Operation Exemption—Ogeechee Railway Company, FD 34466 (STB served Mar. 12, 2004), GMR was authorized to sublease and operate the Perry line as well as two other lines (the Metter line and the Sylvania line) in Georgia. This proceeding only involves a portion of the Perry line.

Applicants have certified that: (1) No local traffic has moved over the line for at least 2 years; (2) any overhead traffic can be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7(c) (environmental report), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, these exemptions will be effective on December 23, 2010, unless stayed pending reconsideration. Petitions to stay that do not involve environmental issues,³ formal expressions of intent to file an OFA under 49 CFR § 1152.27(c)(2),⁴ and trail use/rail banking requests under 49 CFR 1152.29 must be filed by December 3, 2010. Petitions to reopen or requests for public use conditions under 49 CFR 1152.28 must be filed by December 13, 2010, with: Surface Transportation Board, 395 E Street, SW., Washington, DC 20423-0001.

³ The Board will grant a stay if an informed decision on environmental issues (whether raised by a party or by the Board's Office of Environmental Analysis (OEA) in its independent investigation) cannot be made before the abandonment exemption's effective date. See Exemption of Out-of-Serv. Rail Lines, 5 I.C.C.2d 377 (1989). Any request for a stay should be filed as soon as possible so that the Board may take appropriate action before the exemption's effective date.

⁴ Each OFA must be accompanied by the filing fee, which is currently set at $1,500. See 49 CFR 1002.2(f)(25).

A copy of any petition filed with the Board should be sent to applicants' representatives: (1) Daniel G. Kruger, Three Commercial Place, Norfolk, VA 23510, and (2) Thomas F. McFarland, 208 South LaSalle Street, Suite 1890, Chicago, IL 60604.

If the verified notice contains false or misleading information, the exemptions are void ab initio.

Applicants have filed a joint combined environmental and historic report, which addresses the effects, if any, of the abandonment and discontinuance on the environment and historic resources. OEA will issue an environmental assessment (EA) by November 26, 2010. Interested persons may obtain a copy of the EA by writing to OEA (Room 1100, Surface Transportation Board, Washington, DC 20423-0001) or by calling OEA, at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), NSR shall file a notice of consummation with the Board to signify that it has exercised the authority granted and fully abandoned the line. If consummation has not been effected by NSR's filing of a notice of consummation by November 23, 2011, and there are no legal or regulatory barriers to consummation, the authority to abandon will automatically expire.

Board decisions and notices are available on our Web site at http://www.stb.dot.gov.

Decided: November 16, 2010.
By the Board, Rachel D. Campbell, Director, Office of Proceedings.
Jeffrey Herzig,
Clearance Clerk.

[FR Doc. 2010-29365 Filed 11-22-10; 8:45 am]

BILLING CODE 4915-01-P